DEPARTMENT OF COMMERCE

National Oceanic and Atmospheric Administration

[Docket No 041110317-4364-02; I.D. 110404B]

RIN 0648-AR51

50 CFR Part 648

Fisheries of the Northeastern United States; Summer Flounder, Scup, and Black Sea Bass Fisheries; 2005 and 2006 Summer Flounder Specifications; 2005 Scup and Black Sea Bass Specifications; Correction

AGENCY: National Marine Fisheries Service (NMFS), National Oceanic and Atmospheric Administration (NOAA), Commerce.

ACTION: Final rule; correction.

SUMMARY: NMFS published in the Federal Register of January 4, 2005, a final rule containing final specifications for the 2005 and 2006 summer flounder fisheries and for the 2005 scup and black sea bass fisheries. Inadvertently, Table 4 of the final rule contained an incorrect Winter I period scup possession limit. This document corrects that error.

DATES: Effective January 1, 2005.

FOR FURTHER INFORMATION CONTACT: Sarah McLaughlin, Fishery Policy Analyst, (978) 281-9279, fax (978) 281-9135.

SUPPLEMENTARY INFORMATION: The final rule, including final quota specifications for the summer flounder, scup, and black sea bass fisheries, was published in the Federal Register on January 4, 2005 (70 FR 303). Table 4 incorrectly listed the Winter I period scup possession limit (per trip) as 15,000 lb (6,804 kg); the correct amount is 30,000 lb (13,608 kg). The entries at the 2nd row, 11th and 12th columns of Table 4 are corrected to read 30,000 lb and 13,608 kg, respectively.

Dated: January 12, 2005.
Alan D. Risenhoover,
Acting Director, Office of Sustainable Fisheries , National Marine Fisheries Service.

[FR Doc. 05-929 Filed 1-14-05; 8:45 am]

BILLING CODE 3510-22-S